NATIONAL AERONAUTICS AND SPACE ADMINISTRATION

48 CFR Part 1802

RIN: 2700-AD21

Change in Definition of Head of the Contracting Activity

AGENCY: National Aeronautics and Space Administration.

ACTION: Final rule.

SUMMARY: This final rule amends the NASA FAR Supplement (NFS) by revising the definition for “Head of the contracting activity (HCA).”

DATES: Effective Date: February 15, 2006.

FOR FURTHER INFORMATION CONTACT: Sheryl Goddard, NASA, Office of Procurement, Program Operations Division; (703) 553-2519; e-mail: Sheryl.Goddard@nasa.gov.

SUPPLEMENTARY INFORMATION:

A. Background

This final rule revises the definition of “Head of the contracting activity (HCA)” in NFS 1802.101 to designate the Associate Administrator for the Space Operations Mission Directorate (SOMD) as head of the contracting activity for SOMD contracts. Previously, the center director of the NASA installation cognizant for award of an SOMD contract was the designated HCA. This administrative change is consistent with the roles and responsibilities of NASA officials.

B. Regulatory Flexibility Act

The Regulatory Flexibility Act does not apply to this final rule. This final rule does not constitute a significant revision within the meaning of FAR 1.501 and Public Law 98-577, and publication for public comment is not required. However, NASA will consider comments from small entities concerning the affected NFS part 1802 in accordance with 5 U.S.C. 610. Interested parties must submit such comments separately and should cite 5 U.S.C. 601, et seq., in correspondence.

C. Paperwork Reduction Act

The Paperwork Reduction Act does not apply because the changes do not impose recordkeeping or information collection requirements which require the approval of the Office of Management and Budget under 44 U.S.C. 3501, et seq.

List of Subjects in 48 CFR Part 1802

Government Procurement.

Tom Luedtke,
Assistant Administrator for Procurement.

Accordingly, 48 CFR part 1802 is amended as follows:

PART 1802—DEFINITIONS OF WORDS AND TERMS

1. The authority citation for 48 CFR part 1802 continues to read as follows:

Authority: 42 U.S.C. 2473(c)(1).

2. Amend section 1802.101 by revising the definition of “Head of the contracting activity (HCA)” to read as follows:

1802.101 Definitions.

* * * * *

Head of the contracting activity (HCA) means, for field installations, the Director or other head, and for NASA Headquarters, the Assistant Administrator for Management Systems. For Space Operations Mission Directorate (SOMD) contracts, the HCA is the Associate Administrator for SOMD in lieu of the field Center Director(s). For Exploration Systems Mission Directorate (ESMD) contracts, the HCA is the Associate Administrator for ESMD in lieu of the field Center Director(s). For NASA Shared Services Center (NSSC) contracts, the HCA is the Executive Director of the NSSC in lieu of the field Center Director(s).

* * * * *

[FR Doc. 06-1430 Filed 2-14-06; 8:45 am]

BILLING CODE 7510-01-P